DEPARTMENT OF ENERGY

Federal Energy Regulatory Commission

[Docket No. CP15-492-000]

Dominion Transmission, Inc.; Notice of Schedule for Environmental Review of the Leidy South Project

On May 15, 2015, Dominion Transmission, Inc. (DTI) filed an application in Docket No. CP15-492-000 requesting a Certificate of Public Convenience and Necessity pursuant to Section 7(c) of the Natural Gas Act to construct and operate certain natural gas pipeline facilities. The proposed project is known as the Leidy South Project (Project), and would provide an incremental 155 MMcf per day of firm transportation service in the Mid-Atlantic region and to meet the need of increasing demand for natural gas at existing and new power generation facilities.

On May 27, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA March 30, 2016

90-day Federal Authorization Decision Deadline June 28, 2016

If a schedule change becomes necessary, additional notice will be provided so that the relevant agencies are kept informed of the Project's progress.

Project Description

DTI proposes the following facilities in Pennsylvania to replace two 1,100 horsepower (hp) compressor units with one 10,915 hp unit at the Finnefrock Compressor Station in Clinton County; install one suction filter/separator at the Centre Compressor Station in Centre County; and install one 13,220 hp unit at the Chambersburg Compressor Station in Franklin County. DTI would also install the following facilities in Virginia, a new cooler and filter separator at the Quantico Compressor Station in Fauquier County; one 8,000 hp unit at the Leesburg Compressor Station and construct a new meter station at the Panda Stonewall Power Project both in Loudoun County. Finally, DTI would install one 15,900 hp unit at the Myersville Compressor Station in Frederick County, Maryland.

Background

On July 23, 2015, the Commission issued a Notice of Intent to Prepare an Environmental Assessment for the Proposed Leidy South Project and Request for Comments on Environmental Issues (NOI). The NOI was sent to affected landowners; federal, state, and local government agencies; elected officials; environmental and public interest groups; Native American tribes; other interested parties; and local libraries and newspapers. In response to the NOI, the Commission received comments from several state and federal agencies and from the Allegheny Defense Project, Wild Virginia, and Chesapeake Climate Action Network. The primary issues raised by the commentors are the purpose and need for the Project; potential impacts on wildlife, surface water, drinking water, and wetland resources; the potential for increased soil compactions and watershed impacts on the Tamarack Swamp Natural Area; noise impacts; climate change; and cumulative impacts.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP15-492), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: February 18, 2016.
Nathaniel J. Davis, Sr.,
Deputy Secretary.

[FR Doc. 2016-03833 Filed 2-23-16; 8:45 am]

BILLING CODE 6717-01-P